DEPARTMENT OF COMMERCE

National Oceanic and Atmospheric Administration

[RTID 0648-XV180]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Saint Matthew Island blue king crab is still overfished, the American Samoa Bottomfish Multi-species Complex is now subject to overfishing and now overfished, and the Guam Bottomfish Multi-species Complex is now overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Saint Matthew Island blue king crab is still overfished. This determination is based on the most recent assessment, completed in 2019 using data through 2019, which indicates that the biomass estimate remains below its threshold. NMFS has notified the North Pacific Fishery Management Council of the requirements to rebuild this stock.

NMFS has determined that the American Samoa Bottomfish Multi-species Complex is now subject to overfishing and now overfished. This determination is based on the most recent assessment, completed in 2019, using data through 2017, which indicates that this complex is overfished because the biomass estimate is less than the threshold and subject to overfishing because the fishing mortality rate is greater than the threshold. In addition, NMFS has determined that the Guam Bottomfish Multi-species Complex is now overfished. This determination is based on the most recent assessment, completed in 2019, using data through 2017, which indicates that this complex is overfished because the biomass estimate is less than the threshold. NMFS has notified the Western Pacific Fishery Management Council of its obligation to end overfishing on the American Samoa Multi-species Complex and rebuild both stock complexes.

Dated: April 30, 2020.
Hélène M.N. Scalliet,
Acting Director, Office of Sustainable Fisheries, National Marine Fisheries Service.

[FR Doc. 2020-09622 Filed 5-5-20; 8:45 am]

BILLING CODE 3510-22-P